DEPARTMENT OF AGRICULTURE

Food Safety and Inspection Service

[Docket No. FSIS-2010-0016]

Availability of Compliance Guide for the Use of Video or Other Electronic Monitoring or Recording Equipment in Federally Inspected Establishments

AGENCY: Food Safety and Inspection Service, USDA.

ACTION: Notice of availability and opportunity for comments.

SUMMARY: The Food Safety and Inspection Service (FSIS) is announcing the availability of a compliance guide on the use of video or other electronic monitoring or recording equipment in federally inspected establishments. FSIS has posted this compliance guide on its Significant Guidance Documents Web page (http://www.fsis.usda.gov/Significant_Guidance/index.asp). FSIS is publishing this as draft guidance while pursuing OMB approval of information collection under the Paperwork Reduction Act related to Hazard Analysis and Critical Control Point and Sanitation Standard Operating Procedures video records. FSIS is soliciting comments on this compliance guide. Once FSIS receives OMB approval on the information collection, it will reissue a final guide. At that time, FSIS may also make changes to the guide based on comments received on the draft guide.

DATES: Submit written comments by December 14, 2010.

ADDRESSES: FSIS invites interested persons to submit comments on this notice and the compliance guide. Comments may be submitted by either of the following methods:

Federal eRulemaking Portal: This Web site provides the ability to type short comments directly into the comment field on this Web page or attach a file for lengthier comments. Go to http://www.regulations.gov. Follow the online instructions at that site for submitting comments.

Mail, including floppy disks or CD-ROMs, and hand- or courier-delivered items: Send to Docket Clerk, U.S. Department of Agriculture, FSIS, Room 2-2127, George Washington Carver Center, 5601 Sunnyside Avenue, Mailstop 5272, Beltsville, MD 20705-5474.

Instructions: All items submitted by mail or electronic mail must include the Agency name and docket number FSIS-2010-0016. Comments received in response to this docket will be made available for public inspection and posted without change, including any personal information, to http://www.regulations.gov.

Docket: For access to background documents or to comments received, go to the FSIS Docket Room at the address listed above between 8:30 a.m. and 4:30 p.m., Monday through Friday.

FOR FURTHER INFORMATION CONTACT: Isabel Arrington, U.S. Department of Agriculture (USDA), Food Safety and Inspection Service (FSIS), by phone at (402) 344-5000 or by e-mail at Isabel.Arrington@fsis.usda.gov.

SUPPLEMENTARY INFORMATION:

Background

This compliance guide provides information to industry to help it maintain compliance with Federal regulations, including humane treatment of livestock and the use of good commercial practices in poultry.

FSIS is providing this draft guide to advise establishments that video or other electronic monitoring or recording equipment can be used in federally inspected establishments. This guide informs establishments of the Agency's expectations if they decide to use this type of equipment to create records to meet the requirements of the Hazard Analysis and Critical Control Points regulations, or the regulations governing Sanitation Standard Operating Procedures. In addition, this guide provides information on issues establishments should consider if they use this equipment for any other purpose, such as part of their food defense plans.

FSIS is publishing this draft guide while pursuing OMB approval of information collection under the Paperwork Reduction Act related to Hazard Analysis and Critical Control Point and Sanitation Standard Operating Procedures video records. FSIS is requesting comments through a separate Federal Register document on this information collection. Until the Agency receives OMB approval for the information collection, the draft guide should not be viewed as authoritative. Once FSIS receives OMB approval, it will issue a final guide. At that time, FSIS may also make changes to the guide based on comments received on the draft guide.

Additional Public Notification

Public awareness of all segments of rulemaking and policy development is important. Consequently, in an effort to ensure that minorities, women, and persons with disabilities are aware of this notice, FSIS will announce it online through the FSIS Web page located at http://www.fsis.usda.gov/regulations_&_policies/2010_Notices_Index/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts.

Done at Washington, DC, on September 15, 2010.
Alfred V. Almanza,
Administrator.

[FR Doc. 2010-26027 Filed 10-14-10; 8:45 am]

BILLING CODE 3410-DM-P